DEPARTMENT OF ENERGY

Federal Energy Regulatory Commission

[Docket No. AD04-5-000]

Technical Conference on Northeast Energy Infrastructure; Notice of Conference

April 1, 2004.

The Federal Energy Regulatory Commission (FERC) will hold a conference on energy infrastructure issues in the northeastern states on Thursday, June 3, 2004, at the Hilton New York, 1335 Avenue of the Americas, New York, NY.

The conference is for the purpose of further exploring the adequacy and development of the electric, natural gas, and other energy infrastructure in the Northeast. This region includes Maine, Vermont, New Hampshire, New York, Massachusetts, Connecticut, and Rhode Island. In addition to expert panelists, Governors, state utility commissioners, other elected officials of the northeastern states and international representatives from neighboring Canada are being invited to participate. The goal is to identify the current state of infrastructure in the Northeast, present and future infrastructure needs, and the means and barriers to fulfilling those needs. We look forward to an informative discussion of the issues to clarify how we can facilitate and enhance a comprehensive collaborative approach to energy infrastructure development for the northeastern states. It is becoming increasingly clear that a well-functioning infrastructure is necessary to meet America's energy demands and sustain workable, competitive markets.

The meeting will begin at 9:30 a.m. and conclude at 5 p.m. All interested parties are invited to attend. Hotel rooms have been blocked at the Hilton New York under the code "Northeast Infrastructure Conference" for any attending guests to reserve a one- or two-night stay, but will be released by May 3, 2004. You can still reserve a room after that date, but on a room- and rate-availability basis. Reservations for hotel rooms can be made by calling 1-212-586-7000 or 1-800-HILTONS.

To attend, please register online on the Commission Web site at http://www.ferc.gov/EventCalendar/EventDetails.aspx?ID=896&CalType=%20&Date=6%2f3%2f2004&CalendarID=0. There is no registration fee. We will issue further details on the conference, including the agenda and a list of panelists, as plans evolve. For additional information, please contact Carol Connors in the Office of External Affairs at carol.connors@ferc.gov.

Magalie R. Salas,
Secretary.

[FR Doc. E4-779 Filed 4-6-04; 8:45 am]

BILLING CODE 6717-01-P